DEPARTMENT OF DEFENSE

Department of the Army

[Docket ID: USA-2019-HQ-0022]

Submission for OMB Review; Comment Request

AGENCY: U.S. Army Corps of Engineers, DoD.

ACTION: 30-day information collection notice.

SUMMARY: The Department of Defense has submitted to OMB for clearance the following proposal for collection of information under the provisions of the Paperwork Reduction Act.

DATES: Consideration will be given to all comments received by October 31, 2019.

ADDRESSES: Comments and recommendations on the proposed information collection should be emailed to Mr. Vlad Dorjets, DoD Desk Officer, at oira_submission@omb.eop.gov. Please identify the proposed information collection by DoD Desk Officer, Docket ID number, and title of the information collection.

FOR FURTHER INFORMATION CONTACT: Angela James, 571-372-7574, or whs.mc-alex.esd.mbx.dd-dod-information-collections@mail.mil.

SUPPLEMENTARY INFORMATION: Title; Associated Form; and OMB Number: Beach Recreation Survey; OMB Control Number 0710-XXXX.

Type of Request: New.

Number of Respondents: 4,500.

Responses per Respondent: 1.

Annual Responses: 4,500.

Average Burden per Response: 15 minutes.

Annual Burden Hours: 1,125.

Needs and Uses: The information collection requirement is necessary to determine National Economic Development (NED) benefits and recreation values for five recreation sites, including Miami-Dade County FL, Pinellas County FL, Collier County FL, Folly Beach SC, and San Juan Coast Line, PR. As part of this investigation, the Corps will evaluate the existing recreation demand and tourism opportunities provided by each project. The proposed methodology (design) involves an onsite intercept survey of eligible recreationist to collect data on recreational trips and activities within the region, state, and nation. The models will be used to produce empirical estimates of economic value of beach replenishment.

Affected Public: Individuals or Households.

Frequency: On occasion.

Respondent's Obligation: Voluntary.

OMB Desk Officer: Mr. Vlad Dorjets.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: September 25, 2019.
Aaron T. Siegel,
Alternate OSD Federal Register Liaison Officer, Department of Defense.

[FR Doc. 2019-21179 Filed 9-30-19; 8:45 am]

BILLING CODE 5001-06-P